ENVIRONMENTAL PROTECTION AGENCY

[A-1-FRL-8257-9]

Clean Air Act Operating Permit Program; Petition for Objection to State Operating Permit for Bio Energy in Hopkinton NH

AGENCY: Environmental Protection Agency (EPA).

ACTION: Notice of final order on petition to object to a modification to a state operating permit.

SUMMARY: This notice announces that the EPA Administrator has responded to a citizen petition requesting that EPA object to a Clean Air Act (“CAA” or “the Act”) title V operating permit modification issued by the New Hampshire Department of Environmental Services (“New Hampshire DES”). Specifically, the Administrator has granted in part and denied in part the petition submitted by the Residents Environmental Action Committee of Hopkinton, the Conservation Law Foundation, and the Physician Petitioners (collectively referred to herein as “Petitioners”) requesting that the Administrator object to the permit modification issued to Bio Energy, LLC of Hopkinton, New Hampshire.

Pursuant to section 505(b)(2) of the Act, the petitioner may seek judicial review of any portion of the petition which EPA denied in the United States Court of Appeals for the appropriate circuit. Any petition for review shall be filed within 60 days from the date this notice appears in the Federal Register, pursuant to section 307 of the Act.

ADDRESSES: Copies of the final order, petition, and other supporting information are available at the Office of Ecosystem Protection, U.S. Environmental Protection Agency, EPA New England Regional Office, One Congress Street, Suite 1100, Boston, MA. EPA requests that if at all possible, you contact the contact listed in the FOR FURTHER INFORMATION CONTACT section to schedule your inspection. The Regional Office's official hours of business are Monday through Friday, 8:30 to 4:30 excluding legal holidays. The final order is also available electronically at: http://www.epa.gov/region07/programs/artd/air/title5/petitiondb/petitiondb2003.htm.

FOR FURTHER INFORMATION CONTACT: Ida E. McDonnell, Air Permits, Toxics, and Indoor Programs Unit, U.S. Environmental Protection Agency, EPA New England Regional Office, One Congress Street, Suite 1100 (CAP), Boston, MA 02114-2023, telephone number (617) 918-1653, fax number (617) 918-0653, e-mail mcdonnell.ida@epa.gov.

SUPPLEMENTARY INFORMATION: EPA approves State and local permitting authorities to administer the operating permit program set forth in title V of the CAA, 42 U.S.C. 7661-7661f. New Hampshire DES administers a fully approved title V program. The Act affords EPA a 45-day period to review, and object to as appropriate, operating permits proposed by State permitting authorities. Section 505(b)(2) of the Act authorizes any person to petition the EPA Administrator within 60 days after the expiration of this review period to object to state operating permits not in compliance with the CAA, if EPA has not already done so. Petitions must be based only on objections to the permit that were raised with reasonable specificity during the public comment period provided by the State, unless the petitioner demonstrates that it was impracticable to raise such issues during the comment period or the grounds for the issues arose after this period.

On October 21, 2003, the Petitioners submitted a petition requesting that EPA object to the issuance of the modified title V permit pursuant to section 505(b)(2) of the Act. The Petitioners raised four broad objections to the issuance of the modified permit:

(1) NH DES failed to provide adequate notice of the proposed permit modification to the public;

(2) NH DES failed to perform adequate air quality modeling analyses in its assessment of the proposed permit modification;

(3) The modified permit does not contain requirements applicable to “incinerators” under the CAA and federal and state regulations;

(4) The modified permit does not contain state hazardous waste management requirements.

On October 27, 2006, the Administrator issued an order partially granting and partially denying the petition. EPA grants the Petitioners' request that EPA object to the issuance of the modified permit for failure to provide adequate public notice of the proposed modification, and directs New Hampshire DES to reissue the draft modified permit for public comment. EPA denies the petition with respect to all other allegations. The order explains EPA's rationale for concluding that NH DES must reopen the draft modified permit for public comment. The order also explains EPA's rationale for denying the Petitioners' remaining claims.

Dated: December 8, 2006.
Robert W. Varney,
Regional Administrator, EPA New England.

[FR Doc. E6-21528 Filed 12-15-06; 8:45 am]

BILLING CODE 6560-50-P